DEPARTMENT OF TRANSPORTATION

[Docket Number: RITA-2008-0002]

Agency Information Collection Activity; Notice of Request for Approval To Collect New Information: Confidential Close Call Reporting for Transit Rail System

AGENCY: Bureau of Transportation Statistics (BTS), Office of the Assistant Secretary for Research Technology (OST-R), U.S. Department of Transportation.

ACTION: Notice and request for comments.

SUMMARY: In accordance with the requirements of section 3506(c)(2)(A) of the Paperwork Reduction Act of 1995, this notice announces the intention of the Bureau of Transportation Statistics to request the Office of Management and Budget (OMB) to approve the following information collection: Confidential Close Call Reporting for Transit Rail System. This data collection effort supports a multi-year program focused on improving transit rail safety by collecting and analyzing data and information on close calls and other unsafe occurrences in the Washington Metropolitan Area Transit Authority (WMATA) rail system. The program is co-sponsored by WMATA's Office of the Deputy General Manager Operations (DGMO) and the President/Business Agent of the Amalgamated Transit Union (ATU) Local 689. It is designed to identify safety issues and propose corrective actions based on voluntary reports of close calls submitted confidentially to the Bureau of Transportation Statistics (BTS), U.S. Department of Transportation. This information collection is necessary to aid WMATA/ATU in systematically collecting and analyzing data to identify root causes of potentially unsafe events.

DATES: Comments must be received by November 2, 2015.

ADDRESSES: To ensure that your comments are not entered more than once into the docket, submit comments by only one of the following methods:

• Federal eRulemaking Portal: Go to http://www.regulations.gov and follow the instructions for sending your comments electronically. Docket Number: RITA-2008-2002.

• Mail: Docket Management Facility (DMF), U.S. Department of Transportation, 1200 New Jersey Avenue SE., West Building, Ground Floor, Room W12-140, Washington, DC 20590-0001.

• Hand Delivery: Deliver to mail address above between 9 a.m. and 5 p.m. EST, Monday through Friday, except Federal holidays.

• Fax: (202) 493-2251.

Identify all transmission with “Docket Number RITA-2008-0002” at the beginning of each page of the document.

Instructions: All comments must include the agency name and docket number for this notice. Paper comments should be submitted in duplicate. The DMF is open for examination and copying, at the above address from 9 a.m. to 5 p.m. EST, Monday through Friday, except Federal holidays. If you wish to receive confirmation of receipt of your written comments, please include a self-addressed, stamped postcard with the following statement: “Comments on Docket RITA-2008-0002.” The Docket Clerk will date stamp the postcard prior to returning it to you via the U.S. mail. Please note that all comments received, including any personal information, will be posted and will be available to Internet users, without change, at www.regulations.gov. You may review DOT's complete Privacy Act Statement in the Federal Register published on April 11, 2000 (Volume 65, Number 70; pages 19477-78) or you may review the Privacy Act Statement at www.regulations.gov.

FOR FURTHER INFORMATION CONTACT: Demetra V. Collia, Bureau of Transportation Statistics, Office of the Assistant Secretary for Research and Technology (OST-R), U.S. Department of Transportation, Office of Statistical and Economic Analysis (OSEA), RTS-31, E36-302, 1200 New Jersey Avenue SE., Washington, DC 20590-0001; Phone No. (202) 366-1610; Fax No. (202) 366-3383; email: demetra.collia@dot.gov. Office hours are from 8:30 a.m. to 5 p.m., EST, Monday through Friday, except Federal holidays.

Data Confidentiality Provisions: The confidentiality of Close Calls data is protected under the BTS confidentiality statute (49 U.S.C. 111 (k)) and the Confidential Information Protection and Statistical Efficiency Act (CIPSEA) of 2002 (Public Law 107-347, Title V). In accordance with these confidentiality statutes, only statistical and non-identifying data will be made publicly available through reports. Further, BTS will not release to FRA or any other public or private entity any information that might reveal the identity of individuals or organizations mentioned in close call reports.

SUPPLEMENTARY INFORMATION:

I. The Data Collection

The Paperwork Reduction Act of 1995 (44 U.S.C. Chapter 35; as amended) and 5 CFR part 1320 require each Federal agency to obtain OMB approval to continue an information collection activity. BTS is seeking OMB approval for the following BTS information collection activity:

Title: Confidential Close Call Reporting System.

OMB Control Number: 2139-0010.

Type of Review: Approval to continue to collect data. Confidential Close Call Reporting for WMATA.

Respondents: WMATA Rail Employees.

Number of Respondents: 100 (per annum).

Estimated Time per Response: 60 minutes.

Frequency: Intermittent for approximately five (5) years. (Reports are submitted when there is a qualifying event, i.e. a close call occurs within WMATAs rail system. The frequency of such an event is estimated to be two per day.)

Total Annual Burden: 100 hours.

Abstract: Collecting transportation safety data, including data on precursors to adverse events, is an important component of BTS's responsibility to the transportation community and is authorized in BTS' authorizing statute (49 U.S.C. 6302). BTS and WMATA/the Amalgamated Transit Union, (ATU) share a common interest in promoting transit rail safety based on accurate information. To that end, WMATAs Office of the Deputy General Manager Operations (DGMO) and ATU's President/Business Agent are sponsoring the Confidential Close Call reporting for Transit Safety Rail System (C3RTSRS) project to investigate the effectiveness of the system in improving transit rail safety. A close call is a situation or circumstance that had the potential for safety consequences, but did not result in an adverse safety event. Knowledge about a close call presents an opportunity to address unsafe work conditions and improve safety in the workplace. It is estimated that the time for an individual respondent to complete a near miss report and if needed, participate in a brief confidential interview will be no more than 60 minutes for an estimated 100 respondents and maximum total burden of hours (100 reports * 60 minutes/60 = 100 hours). Reports may be voluntarily submitted to BTS when there is a qualifying event, i.e., when a close call occurs within WMATA's rail system.

II. Background

Collecting data on the nation's transportation system is an important component of BTS' mission and responsibility to the transportation community as stated in its authorizing statute (49 U.S.C. Sec. 6302). BTS and WMATA/ATU share a common interest in promoting rail transit safety through the use of timely, accurate, and relevant data. WMATA/ATU is sponsoring the Confidential Close Call Reporting for Transit Rail System (C³RTRS) project to improve transit rail safety by studying the effectiveness of its own rail system through data and information collected from reported close calls.

A close call is a situation or circumstance that had the potential for safety consequences, but did not result in an adverse safety event. Knowledge about a close call presents an opportunity to address unsafe work conditions, prevent accidents, and improve safety in the workplace.

BTS will collect close call reports submitted by WMATA rail employees, conduct employee interviews, as needed, develop an analytical database containing the reported data and other pertinent information, provide statistical analysis to WMATA, and protect the confidentiality of these data through its own statute (49 U.S.C. Sec. 6302) and CIPSEA. Accordingly, only statistical and non-sensitive information will be made available through publications and reports.

Voluntary reporting of close calls to a confidential system can provide a tool to identify and correct weaknesses in WMATA's transit rail system and help prevent accidents. The C³RTRS project will foster a voluntary, cooperative, non-punitive environment to communicate safety concerns. Through the analysis of close calls the WMATA/ATU will receive information about factors that may contribute to unsafe events and use that information to develop new training programs and identify root causes of potentially adverse events. The database will also potentially provide researchers with valuable information regarding precursors to safety risks and contribute to research and development of intervention programs aimed at preventing accidents and fatalities.

Employees involved in reporting a close call incident will be asked to fill out a report and participate in a brief, confidential interview. Employees will have the option to mail or submit the report electronically to BTS. Participants will be asked to provide information such as: (1) Name and contact information; (2) time and location of the event; (3) a short description of the event; (4) contributing factors to the close call; and (5) any other information that might be useful in determining a root cause of such event.

III. Request for Comments

BTS requests comments on any aspects of these information collections, including: (1) The accuracy of the estimated burden of 100 hours detailed in Section I; (2) ways to enhance the quality, usefulness, and clarity of the collected information; and (3) ways to minimize the collection burden without reducing the quality of the information collected, including additional use of automated collection techniques or other forms of information technology.

Issued in Washington, DC, on August 25, 2015.
Patricia Hu,
Director, Bureau of Transportation Statistics, Office of the Assistant Secretary for Research and Technology.

[FR Doc. 2015-21611 Filed 8-31-15; 8:45 am]

BILLING CODE 4910-HY-P